DEPARTMENT OF VETERANS AFFAIRS

Voluntary Service National Advisory Committee; Notice of Meeting

The Department of Veterans Affairs (VA) gives notice under Public Law 92-463 (Federal Advisory Committee Act) that the annual meeting of the Department of Veterans Affairs Voluntary Service (VAVS) National Advisory Committee (NAC) will be held April 27-29, 2011, at the Hyatt Regency Cincinnati, 151 West Fifth Street, Cincinnati, Ohio. On April 27, the meeting will begin at 8 a.m. and end at 12 noon. On April 28-29, the meeting will begin at 8:30 a.m. and end at 4 p.m. The meeting is open to the public.

The Committee, comprised of sixty national voluntary organizations, advises the Secretary, through the Under Secretary for Health, on the coordination and promotion of volunteer activities within VA health care facilities. The primary purposes of this meeting are to provide for Committee review of volunteer policies and procedures; to accommodate full and open communications between organization representatives and the Voluntary Service Office and field staff; to provide educational opportunities geared towards improving volunteer programs with special emphasis on methods to recruit, retain, place, motivate, and recognize volunteers; and to approve Committee recommendations.

The April 27 session will include a National Executive Committee Meeting, Health Fair, VAVS Representative and Deputy training, and the opening awards dinner (requires prepayment) featuring the keynote address, recognition of the recipients of the American Spirit Awards, VAVS Award for Excellence, and the NAC Volunteer of the Year Awards.

The April 28 business session will include remarks from local officials, the Voluntary Service Report, Veterans Health Administration update, and remarks by VA officials on post-traumatic stress disorder, social media, caregivers support, and women Veterans issues. Educational workshops will be held in the afternoon and focus on mechanics of social media, women's health, hospice and family volunteering.

On April 29, the educational workshops will be repeated in the morning and the business session will be held in the afternoon and will include subcommittee reports, remarks by VA officials on the Veterans Benefits Administration, the homeless program, a presentation on voluntary service best practices, concierge service, an inspirational presentation entitled “Affirming the Commitment,” and closing remarks from the Chairman. The James H. Parke Memorial Scholarship recipient will be honored at the Parke Awards dinner (requires prepayment) to be held at 6 p.m.

No time will be allocated at this meeting for receiving oral presentations from the public. However, interested persons may either attend or file statements with the Committee. Written statements may be filed either before the meeting or within 10 days after the meeting and addressed to Ms. Laura B. Balun, Director, Voluntary Service Office (10C2), Department of Veterans Affairs, 810 Vermont Avenue, NW., Washington, DC 20420. Individuals interested in attending are encouraged to contact Ms. Balun at (202) 461-7300.

By direction of the Secretary.
William F. Russo,
Director of Regulations Management, Office of the General Counsel.

[FR Doc. 2011-6985 Filed 3-23-11; 8:45 am]

BILLING CODE P